DEPARTMENT OF ENERGY

Federal Energy Regulatory Commission

[Docket No. ER98-2382-004, et al.]

Montana Power Company, et al.; Electric Rate and Corporate Regulation Filings

July 24, 2000.

Take notice that the following filings have been made with the Commission:

1. Montana Power Company

[Docket No. ER98-2382-004]

Take notice that on July 19, 2000, Montana Power Company (Montana) tendered for filing with the Federal Energy Regulatory Commission pursuant to 18 CFR 35.13 a compliance report showing Montana refunded amounts, including interest, collected in excess of the settled Energy Imbalance Schedule amounts in the above-referenced dockets.

A copy of the filing was served upon the state commissions within whose jurisdiction the wholesale customers distribute and sell electric energy at retail.

Comment date: August 9, 2000, in accordance with Standard Paragraph E at the end of this notice.

2. Boston Edison Company

[Docket No. ER00-2067-002]

Take notice that on July 19, 2000, Boston Edison Company (BECo), tendered for filing an executed Related Facilities Agreement (Agreement) between BECo and ANP Bellingham Energy Company (ANP). The Agreement complies with the directives of the Commission in its order issued on May 30, 2000 in Boston Edison Company, 91 FERC ¶ 61,187, regarding an unexecuted form of the Agreement, and contains certain other changes that reflect the negotiations of the parties.

BECo requests that the Agreement be accepted for filing effective July 18, 2000, the date that ANP executed the Agreement.

Comment date: August 9, 2000, in accordance with Standard Paragraph E at the end of this notice.

3. Allegheny Energy Service Corporation on behalf of Allegheny Energy Supply Company, LLC

[Docket Nos. ER00-2696-000 ER00-2773-000]

Take notice that on July 19, 2000, Allegheny Energy Service Corporation on behalf of Allegheny Energy Supply Company, LLC tendered for filing a request for an exception to waiver of notice requirements in the above-referenced dockets.

Copies of the filing have been provided to the customer, the Public Utilities Commission of Ohio, the Pennsylvania Public Utility Commission, the Maryland Public Service Commission, the Virginia State Corporation Commission, and the West Virginia Public Service Commission.

Comment date: August 9, 2000, in accordance with Standard Paragraph E at the end of this notice.

4. Sierra Pacific Power Company and Nevada Power Company

[Docket No. ER00-3188-000]

Take notice that on July 19, 2000, Sierra Pacific Power Company (Sierra) and Nevada Power Company (Nevada Power), tendered for filing pursuant to Section 205 of the Federal Power a revised Joint Open Access Transmission Tariff. This filing is intended to implement retail access in Nevada and to make certain other changes to reflect the current status of operations.

Sierra and Nevada Power request that the revised tariff be made effective on the date that retail access commences in the state of Nevada.

Comment date: August 9, 2000, in accordance with Standard Paragraph E at the end of this notice.

5. Western Resources, Inc.

[Docket No. ER00-3189-000]

Take notice that on July 19, 2000, Western Resources, Inc. (WR), tendered for filing a Letter Agreement and a Control Area Service Agreement between WR and Missouri Joint Municipal Electric Utility Customers (MJMEUC). WR states that the purpose of these agreements is to permit the City to take Scheduling, System Control, and Dispatch Services from WR.

These agreements are proposed to be effective June 1, 2000.

Copies of the filing were served upon the City and the Kansas Corporation Commission.

Comment date: August 9, 2000, in accordance with Standard Paragraph E at the end of this notice.

6. Allegheny Energy Service Corporation on behalf of Allegheny Energy Supply Company, LLC

[Docket No. ER00-3191-000]

Take notice that on July 19, 2000, Allegheny Energy Service Corporation on behalf of Allegheny Energy Supply Company, LLC (Allegheny Energy Supply), tendered for filing Service Agreement No. 81 to add one (1) new Customer to the Market Rate Tariff under which Allegheny Energy Supply offers generation services.

Allegheny Energy Supply requests a waiver of notice requirements to make service available as of July 18, 2000 to Southern Indiana Gas and Electric Company.

Copies of the filing have been provided to the Public Utilities Commission of Ohio, the Pennsylvania Public Utility Commission, the Maryland Public Service Commission, the Virginia State Corporation Commission, the West Virginia Public Service Commission, and all parties of record.

Comment date: August 9, 2000, in accordance with Standard Paragraph E at the end of this notice.

7. Duke Energy Corporation

[Docket No. ER00-3192-000]

Take notice that on July 19, 2000, Duke Energy Corporation (Duke), tendered for filing a Service Agreement with Dynegy Power Marketing, Inc., for Transmission Service under Duke's Open Access Transmission Tariff.

Duke requests that the proposed Service Agreement be permitted to become effective on June 6, 2000.

Duke states that this filing is in accordance with Part 35 of the Commission's Regulations and a copy has been served on the North Carolina Utilities Commission.

Comment date: August 9, 2000, in accordance with Standard Paragraph E at the end of this notice.

8. Duke Energy Corporation

[Docket No. ER00-3193-000]

Take notice that on July 19, 2000, Duke Energy Corporation (Duke), tendered for filing a Service Agreement with Dynegy Power Marketing, Inc., for Transmission Service under Duke's Open Access Transmission Tariff.

Duke requests that the proposed Service Agreement be permitted to become effective on June 6, 2000.

Duke states that this filing is in accordance with Part 35 of the Commission's Regulations and a copy has been served on the North Carolina Utilities Commission.

Comment date: August 9, 2000, in accordance with Standard Paragraph E at the end of this notice.

9. Duke Energy Corporation

[Docket No. ER00-3194-000]

Take notice that on July 19, 2000, Duke Energy Corporation (Duke), tendered for filing a Service Agreement with Dynegy Power Marketing, Inc., for Transmission Service under Duke's Open Access Transmission Tariff.

Duke requests that the proposed Service Agreement be permitted to become effective on July 18, 2000.

Duke states that this filing is in accordance with Part 35 of the Commission's Regulations and a copy has been served on the North Carolina Utilities Commission.

Comment date: August 9, 2000, in accordance with Standard Paragraph E at the end of this notice.

10. Duke Energy Corporation

[Docket No. ER00-3195-000]

Take notice that on July 19, 2000, Duke Energy Corporation (Duke), tendered for filing a Service Agreement with Dynegy Power Marketing, Inc., for Transmission Service under Duke's Open Access Transmission Tariff.

Duke requests that the proposed Service Agreement be permitted to become effective on June 6, 2000.

Duke states that this filing is in accordance with Part 35 of the Commission's Regulations and a copy has been served on the North Carolina Utilities Commission.

Comment date: August 9, 2000, in accordance with Standard Paragraph E at the end of this notice.

11. Duke Energy Corporation

[Docket No. ER00-3196-000]

Take notice that on July 19, 2000, Duke Energy Corporation (Duke), tendered for filing a Service Agreement with Dynegy Power Marketing, Inc., for Transmission Service under Duke's Open Access Transmission Tariff.

Duke requests that the proposed Service Agreement be permitted to become effective on June 6, 2000.

Duke states that this filing is in accordance with Part 35 of the Commission's Regulations and a copy has been served on the North Carolina Utilities Commission.

Comment date: August 9, 2000, in accordance with Standard Paragraph E at the end of this notice.

12. Duke Energy Corporation

[Docket No. ER00-3197-000]

Take notice that on July 19, 2000, Duke Energy Corporation (Duke), tendered for filing a Service Agreement with Carolina Power & Light Company, for Transmission Service under Duke's Open Access Transmission Tariff.

Duke requests that the proposed Service Agreement be permitted to become effective on May 15, 2000.

Duke states that this filing is in accordance with Part 35 of the Commission's Regulations and a copy has been served on the North Carolina Utilities Commission.

Comment date: August 9, 2000, in accordance with Standard Paragraph E at the end of this notice.

13. Duke Energy Corporation

[Docket No. ER00-3198-000]

Take notice that on July 19, 2000, Duke Energy Corporation (Duke), tendered for filing a Service Agreement with Carolina Power & Light Company, for Transmission Service under Duke's Open Access Transmission Tariff.

Duke requests that the proposed Service Agreement be permitted to become effective on June 5, 2000.

Duke states that this filing is in accordance with Part 35 of the Commission's Regulations and a copy has been served on the North Carolina Utilities Commission.

Comment date: August 9, 2000, in accordance with Standard Paragraph E at the end of this notice.

14. Duke Energy Corporation

[Docket No. ER00-3199-000]

Take notice that on July 19, 2000, Duke Energy Corporation (Duke), tendered for filing a Service Agreement with Carolina Power & Light Company, for Transmission Service under Duke's Open Access Transmission Tariff.

Duke requests that the proposed Service Agreement be permitted to become effective on May 19, 2000.

Duke states that this filing is in accordance with Part 35 of the Commission's Regulations and a copy has been served on the North Carolina Utilities Commission.

Comment date: August 9, 2000, in accordance with Standard Paragraph E at the end of this notice.

15. Duke Energy Corporation

[Docket No. ER00-3200-000]

Take notice that on July 19, 2000, Duke Energy Corporation (Duke), tendered for filing a Service Agreement with Reliant Energy Services, Inc., for Transmission Service under Duke's Open Access Transmission Tariff.

Duke requests that the proposed Service Agreement be permitted to become effective on June 5, 2000.

Duke states that this filing is in accordance with Part 35 of the Commission's Regulations and a copy has been served on the North Carolina Utilities Commission.

Comment date: August 9, 2000, in accordance with Standard Paragraph E at the end of this notice.

16. Jersey Central Power & Light Company, Metropolitan Edison Company and Pennsylvania Electric Company

[Docket No. ER00-3201-000]

Take notice that on July 19, 2000, Jersey Central Power & Light Company, Metropolitan Edison Company and Pennsylvania Electric Company (individually doing business as GPU Energy), tendered for filing a Notice of Cancellation of the Service Agreement between GPU Service Corporation and Cenergy, Inc., FERC Electric Tariff, Original Volume No. 1, Service Agreement No. 32.

GPU Energy requests that cancellation be effective September 18, 2000.

Comment date: August 9, 2000, in accordance with Standard Paragraph E at the end of this notice.

17. Jersey Central Power & Light Company, Metropolitan Edison Company and Pennsylvania Electric Company

[Docket No. ER00-3202-000]

Take notice that on July 19, 2000, Jersey Central Power & Light Company, Metropolitan Edison Company and Pennsylvania Electric Company (individually doing business as GPU Energy), tendered for filing a Notice of Cancellation of the Service Agreement between GPU Service, Inc. and Cleveland Electric Illuminating Company, FERC Electric Tariff, Original Volume No. 1, Service Agreement No. 51.

GPU Energy requests that cancellation be effective September 18, 2000.

Comment date: August 9, 2000, in accordance with Standard Paragraph E at the end of this notice.

18. Jersey Central Power & Light Company, Metropolitan Edison Company and Pennsylvania Electric Company

[Docket No. ER00-3203-000]

Take notice that on July 19, 2000, Jersey Central Power & Light Company, Metropolitan Edison Company and Pennsylvania Electric Company (individually doing business as GPU Energy), tendered for filing a Notice of Cancellation of the Service Agreement between GPU Service Corporation and Dayton Power & Light Company, FERC Electric Tariff, Original Volume No. 1, Service Agreement No. 33.

GPU Energy requests that cancellation be effective September 18, 2000.

Comment date: August 9, 2000, in accordance with Standard Paragraph E at the end of this notice.

19. Wisconsin Public Service Corporation

[Docket No. ER00-3204-000]

Take notice that on July 19, 2000, Wisconsin Public Service Corporation (WPSC), tendered for filing an executed Service Agreement with Minnesota Municipal Power Agency providing for transmission service under FERC Electric Tariff, Volume No. 1.

Comment date: August 9, 2000, in accordance with Standard Paragraph E at the end of this notice.

20. Wisconsin Public Service Corporation

[Docket No. ER00-3205-000]

Take notice that on July 19, 2000, Wisconsin Public Service Corporation (WPSC), tendered for filing an executed Service Agreement with Minnesota Municipal Power Agency providing for transmission service under FERC Electric Tariff, Volume No. 1.

Comment date: August 9, 2000, in accordance with Standard Paragraph E at the end of this notice.

21. Commonwealth Edison Company

[Docket No. ER00-3208-000]

Take notice that on July 19, 2000, Commonwealth Edison Company (ComEd), tendered for filing an executed service agreement for Public Service Company of Colorado (PSC) under ComEd's FERC Electric Market Based-Rate Schedule for power sales.

ComEd requests and effective date of July 13, 2000 for the service agreement and accordingly seeks waiver of the Commission's notice requirements.

Copies of this filing were served on PSC.

Comment date: August 9, 2000, in accordance with Standard Paragraph E at the end of this notice.

22. MidAmerican Energy Company

[Docket No. ER00-3209-000]

Take notice that on July 19, 2000, MidAmerican Energy Company (MidAmerican), tendered for filing with the Commission a Notice of Cancellation pursuant to Section 35.15 of the Commission's Regulations.

MidAmerican requests that the following rate schedule be canceled effective March 31, 1998.

1. Full Requirements Power Agreement dated December 16, 1987, between Iowa Public Service Company (a predecessor company of MidAmerican) and City of Denver, Iowa. This Agreement has been designated as MidAmerican Rate Schedule Electric Tariff No. 7, Service Agreement No. 3.

MidAmerican requests a waiver of Section 35.15 to the extent that this Notice of Cancellation has not been filed within the time required by such section. MidAmerican inadvertently failed to submit the Notice of Cancellation upon expiration of the agreement. The expired agreement was supplanted by a new agreement, the “Power Sales Agreement” and has been designated as MidAmerican Rate Schedule Electric Tariff No. 5, Service Agreement No. 29 and 30.

MidAmerican has mailed a copy of this filing to City of Denver, IA, the Iowa Utilities Board, the Illinois Commerce Commission and the South Dakota Public Utilities commission.

Comment date: August 9, 2000, in accordance with Standard Paragraph E at the end of this notice.

23. Columbia Falls Aluminum Company, PPL Montana LLC, Alcoa, Inc. and Kaiser Aluminum & Chemical Corporation

[Docket No. ER00-3210-000]

Take notice that on July 19, 2000, Columbia Falls Aluminum Company, PPL Montana LLC, Alcoa, Inc., and Kaiser Aluminum & Chemical Corporation, tendered for filing member signature pages of the Northeast Regional Transmission Association Agreement and also a letter stating that Northwest Power Enterprises Inc., relinquishes its membership in the Northwest Regional Transmission Association.

Comment date: August 9, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19058 Filed 7-27-00; 8:45 am]

BILLING CODE 6717-01-P